DEPARTMENT OF JUSTICE

Notice of Lodging of Proposed Consent Decree Under the Clean Water Act

On October 15, 2024, the Department of Justice lodged a proposed Consent Decree with the United States District Court for the District of Puerto Rico in the lawsuit entitled U.S. v. Municipality of Ponce, Puerto Rico, Case No. 3:24-cv-1478.

The United States filed this lawsuit to seek civil penalties and injunctive relief for Ponce's violation of the Clean Water Act, 33 U.S.C. 1251, et seq. (“Act”) in connection with the operation of its Municipal Separate Storm Sewer System (“MS4”). The United States alleges that Ponce: (i) discharged pollutants from its MS4 outfalls into U.S. Waters without a permit; and (ii) failed to comply with various requirements of the National Pollutant Discharge Elimination System (“NPDES”) General Permit for Discharges from Small MS4s within the Commonwealth of Puerto Rico. The Consent Decree resolves the claims in the complaint and requires Ponce to implement various injunctive measures that will prevent future unpermitted discharges from its Small MS4 and that will bring Ponce into compliance with its NPDES permit. The Consent Decree also requires Ponce to pay a $25,000 civil penalty, based on its limited ability to pay.

The publication of this notice opens a period for public comment on the proposed Consent Decree. Comments should be addressed to the Assistant Attorney General, Environment and Natural Resources Division, and should refer to U.S. v. Municipality of Ponce, Civil Action No. 3:24-cv-1478 and D.J. Ref. No. 90-5-1-1-11715. All comments must be submitted no later than 45 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. If you require assistance accessing the Consent Decree, you may request assistance by email or by mail to the addresses provided above for submitting comments.

Eric D. Albert,
Assistant Section Chief, Environmental Enforcement Section, Environment and Natural Resources Division.

[FR Doc. 2024-24330 Filed 10-21-24; 8:45 am]

BILLING CODE 4410-15-P